DEPARTMENT OF COMMERCE

National Oceanic and Atmospheric Administration

RIN 0648-XD057

Endangered and Threatened Species; Take of Anadromous Fish

AGENCY: National Marine Fisheries Service (NMFS), National Oceanic and Atmospheric Administration (NOAA), Commerce.

ACTION: Notice of receipt of application for a new scientific research and enhancement permit and request for comment.

SUMMARY: Notice is hereby given that NMFS has received an application for a scientific research and enhancement permit (permit 17781) relating to salmon listed under the Endangered Species Act (ESA). This document serves to notify the public of the availability of the permit application for review and comment. The applications and related documents may be viewed online at: http://swr.nmfs.noaa.gov/sjrrestorationprogram/salmonreintroduction.htm. These documents are also available upon written request or by appointment by contacting NMFS by phone 916-930-3600.

DATES: Written comments on the permit application must be received at the appropriate address (see ADDRESSES) no later than 5 p.m. Pacific standard time on January 30, 2014.

ADDRESSES: Written comments on this application should be submitted to the Assistant Regional Administrator, California Central Valley Area Office, West Coast Region, NMFS, 650 Capitol Mall, Suite 5-100, Sacramento, CA 95814. Comments may also be submitted by email to SRJspring.salmon@noaa.gov.

FOR FURTHER INFORMATION CONTACT: Elif Fehm-Sullivan, Sacramento, CA, ph: 916-930-3723.

SUPPLEMENTARY INFORMATION:

Species Covered in This Notice

This notice is relevant to federally threatened CV spring-run Chinook salmon (Oncorhynchus tshawytscha) and California Central Valley steelhead (Oncorhynchus mykiss).

Authority

Scientific research and enhancement permits are issued in accordance with section 10(a)(1)(A) of the ESA (16 U.S.C. 1531 et seq.) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Application Received

On December 5, 2013, the U.S. Fish and Wildlife Service (USFWS) submitted an application and supporting documents to NMFS for a section 10(a)(1)(A) permit (permit 17781). USFWS is requesting a 5-year permit to collect, transport, and release Central Valley (CV) spring-run Chinook salmon, for the purposes of reintroduction into the San Joaquin River. The USFWS, under the auspices of the San Joaquin River Restoration Program (SJRRP), is requesting over a period of five years: (1) The annual collection of juvenile CV spring-run Chinook salmon and eggs from the Feather River Fish Hatchery (FRFH) and their release into the San Joaquin River or Salmon Conservation and Research Facility (SCARF); (2) the collection of CV spring-run Chinook salmon and eggs produced or reared at either the interim facility or the permanent SCARF (from broodstock collected under ESA Section 10(a)(1)(A) permit 14868) and their release into the San Joaquin River.

Up to 54,400 CV spring-run Chinook salmon juveniles or 80,000 CV spring-run Chinook salmon eggs originating from the FRFH will be collected annually for translocation. The translocation will follow protocols to minimize impacts to both fish and the existing environment. Quarantine requirements, as defined by California Department of Fish and Wildlife (CDFW) pathologists, will be followed for juveniles. If quarantine is required, juveniles may be transported to a quarantine facility at either the Silverado Fisheries Base (Silverado) located in Yountville, California or the Center for Aquatic Biology and Aquaculture (CABA) located in Davis, California. The collected juveniles will be trucked from the FRFH (or the quarantine facility) to translocation sites in the San Joaquin River. The collected eggs will be trucked to stream side incubators, where they will hatch and rear until they are large enough for marking and release into the San Joaquin River. Short-term confinement is required for sufficient imprinting of juveniles, which may occur either in or alongside the San Joaquin River or at SCARF. All fish will be adipose fin clipped, coded wire tagged, and may be Calcein marked prior to release. Starting in year two, approximately 200 yearlings are expected to be released, annually, for each of the first three brood years from the interim or permanent SCARF. Also in the fourth and fifth year of the permit, up to 100 adult broodstock and 50,000 eggs from the interim or permanent SCARF may be released to the river.

The USFWS will collect CV spring run Chinook juveniles from the FRFH between January and March, unless the FRFH is able to segregate and hold juveniles on site prior to coded wire tagging procedures. In this case, the USFWS would collect juveniles as late as April for translocation. Any juveniles requiring transport directly to the San Joaquin River, or another facility (i.e. SCARF), would be moved between January and April. Juveniles will be released between October and April. Adult release will typically take place between April and October. The release of CV spring-run Chinook salmon will be monitored annually through rotary screw trapping, snorkel surveys and escapement surveys. California Central Valley steelhead may be incidentally captured during these activities.

This notice is provided pursuant to section 10(c) of the ESA. NMFS will evaluate the application, associated documents, and comments submitted thereon to determine whether the application meets the requirements of section 10(a)(1)(A) of the ESA. If it is determined that the requirements are met, a permit will be issued to USFWS for the purpose of collecting ESA-listed spring-run Chinook salmon and carrying out the research and enhancement program.

NMFS will publish a notice of its final action in the Federal Register.

Dated: December 24, 2013.
Perry F. Gayaldo,
Acting Deputy Director, Office of Protected Resources, National Marine Fisheries Service.

[FR Doc. 2013-31330 Filed 12-30-13; 8:45 am]

BILLING CODE 3510-22-P